DEPARTMENT OF TRANSPORTATION

National Highway Traffic Safety Administration

[Docket No. NHTSA 2001-9116; Notice 2]

Hankook Tire Corporation; Grant of Application for Decision That Noncompliance Is Inconsequential to Motor Vehicle Safety

Hankook Tire Manufacturing Company, Ltd. (Hankook), a Korean corporation, has determined that approximately 7,600 P205/75R14 Dayton Thorobred tires, produced in the Hankook Daejun Plant during August 2000 through January 2001, do not meet the labeling requirements mandated by Federal Motor Vehicle Safety Standard (FMVSS) No. 109, “New Pneumatic Tires.”

Pursuant to 49 U.S.C. 30118(d) and 30120(h), Hankook has petitioned for a determination that the noncompliance is inconsequential to motor vehicle safety. It has filed an appropriate report pursuant to 49 CFR part 573, “Defect and Noncompliance Reports.”

Notice of receipt of application was published, with a 30-day comment period, on April 3, 2001, in the Federal Register (66 FR 17747). NHTSA received no comments on this application.

The noncompliance with FMVSS No., 109, paragraph S4.3 (a) relates to a mismarking of the tire size on one mold, Serial Number 24383. The actual stamping in the bead area of the DOT serial side (normally mounted in-board) is P205/75R15 and the correct stamping should have been P205/75R14, which is stamped on the customer side of the tires (normally mounted outboard).

Hankook stated that the estimated 7,600 affected P205/75R14 Dayton Thorobred tires meet all other requirements of FMVSS No. 109. According to Hankook, there is a larger, predominant P205/75R14 correct marking on the mid-sidewall of both sides of the tires and the tire labels supplied to tire dealers with the tires are also marked with the correct tire size information. Furthermore, Hankook stated that an attempt by the company to mount the P205/75R14 tire on a 15-inch rim was unsuccessful since the mounting machine could not apply sufficient force to accomplish the mismatch. Hankook submitted that it was unaware of any adverse effects of this noncompliance and, as a result, believes the noncompliance is inconsequential to motor vehicle safety.

The agency believes that the true measure of inconsequentiality to motor vehicle safety in this case is the effect of the noncompliance on tire and rim safety. Tire and rim safety would be adversely affected if these tires, which are 14 inches in diameter, were to be mounted on 15-inch rims. Hankook stated in its petition for inconsequential noncompliance that the tires are mislabeled on one side only, the DOT serial side, which is generally mounted in-board. In addition to the labeling information in the bead area required by FMVSS No. 109, the tire size is marked in large characters in the mid-sidewall area. According to Hankook, these mid-sidewall tire size markings on both sides of the tires are correct and the new tire label supplied to tire dealers with the tires is also marked with the correct tire size. Since the tire size is marked incorrectly in one location (in-board bead) only, and correctly marked in several other locations, the agency believes it is highly unlikely that the tire size could be misunderstood by a tire service technician. According to Hankook, an attempt to mount one of these 14-inch tires on a 15-inch rim was unsuccessful because the tire-mounting machine could not generate sufficient force to mount the tire on an oversized rim. The agency believes it would highly unlikely that 14-inch diameter tires could be mounted on 15-inch rims in the event they were mistaken to be 15-inch tires. The agency has no knowledge of safety problems that have arisen as a result of tire size mislabeling when the incorrect label indicated that the tire was larger than its actual size. Based on the information provided by Hankook, the agency believes the noncompliance is inconsequential to motor vehicle safety.

In consideration of the foregoing, NHTSA has decided that the applicant has met the burden of persuasion and that the noncompliance is inconsequential to motor vehicle safety. Accordingly, Hankook's application is granted and the applicant is exempted from providing the notification of the noncompliance as required by 49 U.S.C. 30118, and from remedying the noncompliance, as required by 49 U.S.C. 30120.

(49 U.S.C. 30118, 30120; delegations of authority at 49 CFR 1.50 and 501.8)

Issued on: September 7, 2001.
Stephen R. Kratzke,
Associate Administrator for Safety Performance Standards.

[FR Doc. 01-22850 Filed 9-11-01; 8:45 am]

BILLING CODE 4910-59-P